DEPARTMENT OF ENERGY

Federal Energy Regulatory Commission

[Docket No. RP01-612-000]

ANR Pipeline Company; Notice of Tariff Filing

September 27, 2001.

Take notice that on September 24, 2001, ANR Pipeline Company (ANR), tendered for filing as part of its FERC Gas Tariff, Second Revised Volume No. 1, Seventh Revised Sheet No. 1, Original Sheet No. 75G, Original Sheet No. 75G.01, Original Sheet No. 75G.02, Original Sheet No. 75G.03, Second Revised Sheet No. 86A, and Seventh Revised Sheet No. 89, to be effective October 24, 2001.

In this filing, ANR is seeking to implement a new pro forma Associated Liquefiables Agreement for the allocation and transportation of Pipeline Thermal Reduction “PTR”, Pipeline Condensate reduction “PCR”, and Flash Gas. ANR is also proposing to add the definitions of Pipeline Condensate and Flash Gas to the General Terms and Conditions of its Tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-24695 Filed 10-2-01; 8:45 am]

BILLING CODE 6717-01-P